DEPARTMENT OF THE INTERIOR

Bureau of Ocean Energy Management

Vineyard Wind LLC's Proposed Wind Energy Facility Offshore Massachusetts

AGENCY: Bureau of Ocean Energy Management, Department of the Interior.

ACTION: Notice.

SUMMARY: The preparation of an Environment Impact Statement (EIS) for the Construction and Operations Plan (COP) submitted by Vineyard Wind LLC (Vineyard Wind) concerning the construction and operation of an 800 megawatt wind energy facility offshore Massachusetts (Vineyard Wind 1 Project) is no longer necessary and the process is hereby terminated.

DATES: This termination takes effect immediately.

FOR FURTHER INFORMATION CONTACT: For further information, please contact: Michelle Morin, BOEM Office of Renewable Energy Programs, 45600 Woodland Road, Sterling, Virginia 20166, (703) 787-1722 or michelle.morin@boem.gov.

SUPPLEMENTARY INFORMATION: In December 2017, Vineyard Wind submitted to BOEM a COP for the Vineyard Wind 1 Project. On December 7, 2018, BOEM published a Draft EIS for the proposed Project. On June 12, 2020, BOEM published a Supplement to the Draft EIS in response to comments from the public and stakeholders requesting an expanded cumulative analysis and an analysis of fishing data previously unavailable to BOEM. A Final EIS was scheduled to be published in the Federal Register on December 11, 2020. However, by way of a letter dated December 1, 2020, Vineyard Wind withdrew the COP “from further review and decision-making by BOEM pursuant to 30 CFR 585.628” to conduct additional technical and logistical reviews associated with the inclusion of the General Electric Haliade-X wind turbine generator into the final project design. Vineyard Wind's December 1, 2020, letter for withdrawal of its COP was made “effectively immediately.” Since the COP has been withdrawn from review and decision-making, there is no longer a proposal for a major federal action awaiting technical and environmental review, nor is there a decision pending before BOEM. See 42 U.S.C. 4332; 40 CFR 1500.1; 1508.1(q), (x). Thus, in light of Vineyard Wind's letter dated December 1, 2020, this notice advises the public that the preparation and completion of an EIS is no longer necessary, and the process is hereby terminated.

Authority: This Notice was prepared under National Environmental Policy Act, as amended (42 U.S.C. 4321 et seq.), and published in accordance with Council on Environmental Quality regulations (40 CFR parts 1500-1508), including sections 1503.1 and 1506.6.

William Yancey Brown,
Chief Environmental Officer, Bureau of Ocean Energy Management.

[FR Doc. 2020-27701 Filed 12-15-20; 8:45 am]

BILLING CODE 4310-MR-P